DEPARTMENT OF VETERANS AFFAIRS

[OMB Control No. 2900-0029]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before April 5, 2002.

ADDRESSES: Send comments and recommendations concerning any aspect of the information collection to VA's OMB Desk Officer, OMB Human Resources and Housing Branch, New Executive Office Building, Room 10235, Washington, DC 20503 (202) 395-7316. Please refer to “OMB Control No. 2900-0029” in any correspondence.

FOR FURTHER INFORMATION OR A COPY OF THE SUBMISSION CONTACT: Denise McLamb, Information Management Service (045A4), Department of Veterans Affairs, 810 Vermont Avenue, NW., Washington, DC 20420, (202) 273-8030, FAX (202) 273-5981 or e-mail: denise.mclamb@mail.va.gov. Please refer to “OMB Control No. 2900-0029.”

SUPPLEMENTARY INFORMATION:

Titles

a. Offer to Purchase and Contract of Sale, VA Form 26-6705.

b. Credit Statement of Prospective Purchaser, VA Form 26-6705b.

c. Addendum to Offer to Purchase and Contract of Sale, VA Form 26-6705d.

OMB Control Number: 2900-0029.

Type of Review: Extension of a currently approved collection.

Abstract

a. VA Form 26-6705 is used by the private sector sales broker to submit an offer to VA on behalf of a prospective purchaser of a VA-acquired property. The form is prepared for each proposed contract submitted to VA. If VA accepts the offer to purchase, it then becomes a contract of sale. The form defines the terms of sale, provides the prospective purchaser with a receipt for his/her earnest money deposit, eliminates the need for separate transmittal of a purchase offer and develops the contract without such intermediate processing steps and furnishes evidence of the station decision with respect to the acceptance of the contract as tendered. Without this information, a determination of the best offer for a property cannot be made.

b. VA Form 26-6705b is used as a credit application to determine the creditworthiness of a prospective purchaser in those instances when the prospective purchaser seeks VA vendee financing, along with VA Form 26-6705. In such sales, the offer to purchase will not be accepted until the purchaser's income and credit history have been verified and a loan analysis has been completed, indicating loan approval.

c. VA Form 26-6705d is an addendum to VA Form 26-6705 for use in Virginia. It includes requirements of State law, which must be acknowledged by the purchaser at or prior to closing.

An agency may not conduct or sponsor, and a person is not required to respond to a collection of information unless it displays a currently valid OMB control number. The Federal Register Notice with a 60-day comment period soliciting comments on this collection of information was published on December 10, 2001, at pages 63746-63747.

Affected Public: Individuals or households.

Estimated Annual Burden: 57,917 hours.

a. VA Form 26-6705—35,000 hours.

b. VA Form 26-6705b—22,500 hours.

c. VA Form 26-6705d—417 hours.

Estimated Average Burden Per Respondent: 20 minutes (average).

a. VA Form 26-6705—21 minutes.

b. VA Form 26-6705b—20 minutes.

c. VA Form 26-6705d—5 minutes.

Frequency of Response: On occasion.

Estimated Number of Total Respondents: 172,500.

a. VA Form 26-6705—100,000.

b. VA Form 26-6705b—67,500.

c. VA Form 26-6705d—5,000.

Dated: February 19, 2002.
By direction of the Secretary.
Donald L. Neilson,
Director, Information Management Service.

[FR Doc. 02-5262 Filed 3-5-02; 8:45 am]

BILLING CODE 8320-01-P